INTER-AMERICAN FOUNDATION

Sunshine Act Meetings

TIME AND DATE: November 6, 2017, 1:30 p.m.-5:00 p.m.

PLACE: Offices of Baker/McKenzie LLP, 815 Connecticut Avenue NW., Washington, DC 20006.

STATUS: Meeting of the Board of Directors with the Advisory Council, Open to the public.

MATTERS TO BE CONSIDERED:

Approval of the Minutes of the meetings held in April, May, and September 2017

Advisory Council Membership Update

Management Report

IAF Mexico Earthquake Response

New Business

Adjournment

CONTACT PERSON FOR MORE INFORMATION: Paul Zimmerman, General Counsel, (202) 683-7118.

Paul Zimmerman,
General Counsel.

[FR Doc. 2017-23545 Filed 10-25-17; 4:15 pm]

BILLING CODE 7025-01-P